DEPARTMENT OF ENERGY

Federal Energy Regulatory Commission

Combined Notice of Filings #1

Take notice that the Commission received the following electric rate filings:

Docket Numbers: ER10-2124-004; ER10-2125-004; ER10-2127-004; ER10-2128-004; ER10-2130-005; ER10-2132-004; ER10-2133-005; ER10-2137-005; ER10-2131-005; ER10-2138-005; ER10-2139-005; ER10-2140-005; ER10-2141-005; ER10-2764-004; ER11-3872-005; ER11-4044-006; ER11-4046-005; ER12-161-004; ER12-164-004; ER12-645-006.

Applicants: Spring Canyon Energy LLC, Judith Gap Energy LLC, Invenergy TN LLC, Wolverine Creek Energy LLC, Forward Energy LLC, Willow Creek Energy LLC, Sheldon Energy LLC, Beech Ridge Energy LLC,G rand Ridge Energy LLC, Grand Ridge Energy II LLC, Grand Ridge Energy III LLC, Grand Ridge Energy IV LLC, Grand Ridge Energy V LLC, Vantage Wind Energy LLC, Stony Creek Energy LLC, Gratiot County Wind LLC, Gratiot County Wind II LLC, Bishop Hill Energy LLC, Bishop Hill Energy III LLC, California Ridge Wind Energy LLC.

Description: Supplement to July 30, 2013 Notification of Change in Facts of Spring Canyon Energy LLC, et al.

Filed Date: 10/31/13.

Accession Number: 20131031-5049.

Comments Due: 5 p.m. ET 1/22/14.

Docket Numbers: ER13-1916-001.

Applicants: Arizona Public Service Company.

Description: Rate Schedule Nos. 44, 98, 211—Four Corners Acquisition to be effective 12/30/2013.

Filed Date: 1/7/14.

Accession Number: 20140107-5117.

Comments Due: 5 p.m. ET 1/28/14.

Docket Numbers: ER13-1917-001.

Applicants: Arizona Public Service Company.

Description: Service Agreement No. 209—Shiprock Four Corners Project Interconnection to be effective 12/30/2013.

Filed Date: 1/7/14.

Accession Number: 20140107-5118.

Comments Due: 5 p.m. ET 1/28/14.

Docket Numbers: ER14-593-000; ER14-594-000; ER14-595-000.

Applicants: AEP Energy Partners, Inc.

Description: Supplement to December 11, 2013 AEP Energy Partners, Inc. and Ohio Power Company tariff filings.

Filed Date: 1/8/14.

Accession Number: 20140108-5050.

Comments Due: 5 p.m. ET 1/29/14.

Docket Numbers: ER14-698-001.

Applicants: Midcontinent Independent System Operator, Inc.

Description: 2014-01-06 AIC Attachment O Compliance Amendment Filing to be effective 1/2/2013.

Filed Date: 1/7/14.

Accession Number: 20140107-5128.

Comments Due: 5 p.m. ET 1/28/14.

Docket Numbers: ER14-802-001.

Applicants: Valley Electric Association, Inc.

Description: Amendment to Annual TRBAA Update to be effective 1/1/2014.

Filed Date: 1/7/14.

Accession Number: 20140107-5129.

Comments Due: 5 p.m. ET 1/28/14.

Docket Numbers: ER14-960-000.

Applicants: Midcontinent Independent System Operator, Inc.

Description: Midcontinent Independent System Operator, Inc. submits 01-08-2013 SA 2629 ITC-Big Turtle G997 GIA to be effective 1/9/2014.

Filed Date: 1/8/14.

Accession Number: 20140108-5081.

Comments Due: 5 p.m. ET 1/29/14.

Docket Numbers: ER14-961-000.

Applicants: Arizona Public Service Company.

Description: Cancellation of Umbrella Service Agreements Nos. 34, 96, 145, 155, 156, 159, 160, 171,and 172 of Arizona Public Service Company.

Filed Date: 1/8/14.

Accession Number: 20140108-5089.

Comments Due: 5 p.m. ET 1/29/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 8, 2014.
Nathaniel J. Davis, Sr.,
Deputy Secretary.

[FR Doc. 2014-00937 Filed 1-17-14; 8:45 am]

BILLING CODE 6717-01-P